DEPARTMENT OF AGRICULTURE

Natural Resources Conservation Service

Agricultural Air Quality Task Force

AGENCY: Natural Resources Conservation Service, USDA.

ACTION: Notice of request for nominations for the Agricultural Air Quality Task Force.

SUMMARY: The Secretary of Agriculture intends to reestablish the Agricultural Air Quality Task Force (AAQTF), and requests nominations for qualified persons to serve as members.

DATES: Nominations must be received in writing (see SUPPLEMENTARY INFORMATION section) by June 14, 2004.

ADDRESSES: Send written nominations to: Elvis Graves, Acting Designated Federal Official, USDA/Natural Resources Conservation Service, Post Office Box 2890, Room 6158-S, Washington, DC 20013.

FOR FURTHER INFORMATION CONTACT: Questions or comments should be directed to Elvis Graves, Acting Designated Federal Official; telephone: (202) 720-3905; fax: (202) 720-2646; e-mail: elvis.graves@usda.gov.

SUPPLEMENTARY INFORMATION:

Task Force Purpose

As required by section 391 of the Federal Agriculture Improvement and Reform Act of 1996, the Chief of the Natural Resources Conservation Service (NRCS) shall establish a task force to address agricultural air quality issues. The task force will provide recommendations to the Secretary of Agriculture on development and implementation of air quality policy, and on air quality research needs. The requirements of the Federal Advisory Committee Act apply to this task force.

The task force will:

1. Review research on agricultural air quality supported by Federal agencies;

2. Provide recommendations to the Secretary of Agriculture regarding:

• Air quality and its relation to agriculture based upon sound scientific findings;

• Working to ensure inter-governmental (Federal, State and local) coordination in establishing policy for agricultural air quality and avoiding duplication of efforts;

• Assisting, to the extent possible, Federal agencies in correcting erroneous data with respect to agricultural air quality; and

• Working to ensure that air quality research, related to agriculture, receives adequate peer review and considers economic feasibility.

Task Force Membership

The task force will be made up of United States citizens and be composed of:

1. Individuals with expertise in agricultural air quality and/or agricultural production;

2. Representatives of institutions with expertise in the impacts of air quality on human health;

3. Representatives from agriculture interest groups having expertise in production agriculture;

4. Representatives from state or local agencies having expertise in agriculture and air quality; and

5. An atmospheric scientist.

Task force nominations must be in writing, and provide the appropriate background documents required by the Department of Agriculture (USDA) policy, including Form AD-755. Previous nominees and current task force members who wish to be reappointed must update their candidacy. Service as a task force member shall not constitute employment by, or the holding of an office of, the United States for the purpose of any Federal law.

A task force member shall serve for a term of 2 years. Task force members shall receive no compensation from NRCS for their service as task force members except as described below.

While away from home or regular place of business as a member of the task force, the member will be eligible for travel expenses paid by NRCS, including per diem in lieu of subsistence, at the same rate as a person employed intermittently in the government service, under section 5703 of title 5, United States Code.

Additional information about the AAQTF may be found on the World Wide Web at http://aaqtf.tamu.edu.

Submitting Nominations

Nominations should be typed and include the following:

1. A brief summary, of no more than two pages, explaining the nominee's qualifications to serve on the AAQTF;

2. Resume;

3. A completed copy of form AD-755;

4. Any recent publications relative to air quality; and

5. Any letters of endorsement.

Nominations should be sent to Elvis Graves, at the address listed above and postmarked no later than June 14, 2004.

Equal Opportunity Statement

To ensure that recommendations of the task force take into account the needs of under served and diverse communities served by USDA, membership shall include, to the extent practicable, individuals representing minorities, women, and persons with disabilities.

Signed in Washington, DC, on April 19, 2004.
Bruce I. Knight,
Chief, Natural Resources Conservation Service.

[FR Doc. 04-9744 Filed 4-28-04; 8:45 am]

BILLING CODE 3410-16-P